ENVIRONMENTAL PROTECTION AGENCY

40 CFR Part 300

[EPA-HQ-SFUND-1986-0005; FRL-8335-8]

National Oil and Hazardous Substance Pollution Contingency Plan National Priorities List

AGENCY: Environmental Protection Agency (EPA).

ACTION: Notice of intent to partially delete the Uravan Superfund Site from the National Priorities List.

SUMMARY: The Environmental Protection Agency (EPA) Region 8 is issuing a notice of intent to partially delete approximately 7 acres within the Uravan Superfund Site, located in Montrose County, Colorado, from the National Priorities List (NPL) and requests public comments on this notice of intent. Specifically, EPA intends to delete a one mile section of Colorado State Highway 141, comprised of a right-of-way up to 60 feet in width between mile posts 75 and 76.

The NPL, promulgated pursuant to section 105 of the Comprehensive Environmental Response, Compensation, and Liability Act (CERCLA) of 1980, as amended, is found at Appendix B of 40 CFR part 300, which is the National Oil and Hazardous Substances Pollution Contingency Plan (NCP). The EPA and the State of Colorado, through the Colorado Department of Public Health and Environment, have determined that all appropriate response actions under CERCLA, have been completed for the 7.27 acres. However, this deletion does not preclude future actions under Superfund.

DATES: Comments concerning the proposed partial deletion of this Site must be received by August 6, 2007.

ADDRESSES: Submit your comments, identified by Docket ID No. EPA-HQ-SFUND-1986-0005, by one of the following methods:

• http://www.regulations.gov. Follow on-line instructions for submitting comments.

• E-mail: Rob Henneke, Community Involvement Coordinator, at henneke.rob@epa.gov.

• Fax: 303-312-6961 (Attention: Rob Henneke, Community Involvement Coordinator).

• Mail: Rob Henneke, Community Involvement Coordinator, U.S. EPA (80C-PI), 1595 Wynkoop, Denver, Colorado, 80202-1129.

• Hand delivery: Environmental Protection Agency, 1595 Wynkoop Street, Denver, Colorado. Such deliveries are only accepted during normal hours of operation, and special arrangements should be made for deliveries of boxed information.

• Instructions: Direct your comments to Docket ID No. EPA-HQ-SFUND-1986-0005. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through http://www.regulations.gov, your e-mail address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

U.S. EPA, Region 8 Records Center, 1595 Wynkoop Street, Denver, Colorado 80202-1129, (303) 312-6473. Hours: M-F, 8 a.m. to 4 p.m.

Colorado Department of Public Health and the Environment, Records Center, Building B, Second Floor, 4300 Cherry Creek Drive South, Denver, Colorado 80246-1530. Hours: M-F, 8 a.m. to 5 p.m.

FOR FURTHER INFORMATION CONTACT: Rebecca Thomas, Project Manager, U.S. EPA (8EPR-SR), 1595 Wynkoop, Denver, Colorado 80202-1129; e-mail (thomas.rebecca@epa.gov); phone (303) 312-6552, or toll free 1-800-227-8917, extension 6552.

SUPPLEMENTARY INFORMATION: In the “Rules and Regulations” section of today's Federal Register, we are publishing a direct final notice of partial deletion of the Uravan Superfund Site without prior notice of intent to delete because we view this as a noncontroversial revision and anticipate no adverse comment. We have explained our reasons for this partial deletion in the preamble to the direct final deletion. If we receive no adverse comment(s) on this notice of intent to partially delete or the direct final notice of partial deletion, we will not take further action on this notice of intent to delete. If we receive adverse comment(s), we will withdraw the direct final notice of partial deletion and it will not take effect. We will, as appropriate, address all public comments in a subsequent final deletion notice based on this notice of intent to partially delete. We will not institute a second comment period on this notice of intent to partially delete. Any parties interested in commenting must do so at this time. For additional information, see the direct final notice of deletion which is located in the rules section of this Federal Register.

For additional information, see the Direct Final Notice of Deletion which is located in the rules section of this Federal Register.

List of Subjects in 40 CFR Part 300

Environmental Protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: June 26, 2007.
Robert E. Roberts,
Regional Administrator, Region 8.

[FR Doc. E7-13060 Filed 7-3-07; 8:45 am]

BILLING CODE 6560-50-P